DEPARTMENT OF THE TREASURY

Customs Service

[T.D. 01-58]

Recordation of Trade Name: “Red Bull North America, Inc.”

AGENCY: Customs Service, Treasury.

ACTION: Notice of final action.

SUMMARY: This document gives notice that “RED BULL NORTH AMERICA, INC.” is recorded by Customs as the trade name for Red Bull GmbH, an Austrian corporation organized under the laws of the State of Salzburg located at Brunn 115, A-5330 Fuschl am See, Oesterreich, Austria.

EFFECTIVE DATE: August 23, 2001.

FOR FURTHER INFORMATION CONTACT: Gwendolyn Savoy, Intellectual Property Rights Branch, Office of Regulations and Rulings, U.S. Customs Service, 1300 Pennsylvania Ave., NW.—Suite 3.4A, Washington, DC 20229; (202) 927-2330.

SUPPLEMENTARY INFORMATION

Background

Trade names adopted by business entities may be recorded with Customs to afford the particular business entity with increased commercial protection. Customs procedure for recording trade names is provided at § 133.12 of the Customs Regulations (19 CFR 133.12). Pursuant to this regulatory provision, the Red Bull GmbH, an Austrian corporation organized under the laws of the State of Salzburg, and located at Brunn 115, A-5330 Fuschl am See, Oesterreich, Austria, applied to Customs for protection of its trade name “RED BULL NORTH AMERICA, INC”.

On Thursday, June 14, 2001, Customs published a notice of application for the recordation of the trade name “RED BULL NORTH AMERICA, INC.” in the Federal Register (66 FR 32414). The application advised that before final action would be taken on the application, consideration would be given to any relevant data, views, or arguments submitted in writing by any person in opposition to the recordation of this trade name and received not later than August 13, 2001.

On Thursday, July 12, 2001, Customs published a correction of publication in the Federal Register (66 FR 36617), of the June 14, 2001, notification to record a trade name because part of the corporation's full trade name was erroneously omitted (i.e., NORTH AMERICA, INC.).

The comment period closed August 13, 2001. No comments were received during the comment period. Accordingly, as provided by § 133.12 of the Customs Regulations, “RED BULL NORTH AMERICA, INC.” is recorded with Customs as the trade name used by Red Bull GmbH, and will remain in force as long as this trade name is used by this corporation, unless other action is required.

The trade name is used on a product called Red Bull Energy Drink and point of sale and other promotional materials for Red Bull Energy Drink. The merchandise is manufactured in Austria.

Dated: August 17, 2001.
Joanne Roman Stump,
Chief, Intellectual Property Rights Branch.

[FR Doc. 01-21282 Filed 8-22-01; 8:45 am]

BILLING CODE 4820-02-P